DEPARTMENT OF EDUCATION

[CFDA No. 84.345A]

Office of Postsecondary Education—Underground Railroad Educational and Cultural Program; Notice Inviting Applications for Grants for New Awards for Fiscal Year (FY) 2003

Purpose of Program: The Underground Railroad Educational and Cultural program will provide grants to nonprofit educational organizations that are established to research, display, interpret, and collect artifacts relating to the history of the Underground Railroad.

Eligible Applicants: Nonprofit educational organizations that are established to research, display, interpret, and collect artifacts relating to the history of the Underground Railroad.

Applications Available: April 22, 2003.

Deadline for Transmittal of Applications: June 2, 2003.

Deadline for Intergovernmental Review: August 1, 2003.

Available Funds: $2,235,375.

Estimated Range of Awards: $100,000 to $750,000.

Estimated Average Size of Awards: $500,000.

Estimated Number of Awards: 2-4.

Note: The Department is not bound by any estimates in this notice.

Project Period: Up to 36 months.

Applicable Statute and Regulations: (a) The Education Department General Administrative Regulations (EDGAR) in 34 CFR parts 74, 75, 77, 79, 80, 82, 85, 86, 97, 98 and 99 and

(b) Other activities as required by section 841 of the Higher Education Amendments of 1998, Public Law 105-244, 20 U.S.C 1153.

Special Requirements: Each nonprofit educational organization awarded a grant under this program must enter into an agreement with the Department. Each agreement must require the organization—

(1) To establish a facility to house, display, and interpret the artifacts related to the history of the Underground Railroad, and to make the interpretive efforts available to institutions of higher education that award a baccalaureate or graduate degree;

(2) To demonstrate substantial private support for the facility through the implementation of a public-private partnership between a State or local public entity and a private entity for the support of the facility. The private entity must provide matching funds for the support of the facility in an amount equal to 4 times the amount of the contribution of the State or local public entity, except that not more than 20 percent of the matching funds may be provided by the Federal Government;

(3) To create an endowment to fund any and all shortfalls in the costs of the on-going operations of the facility;

(4) To establish a network of satellite centers throughout the United States to help disseminate information regarding the Underground Railroad throughout the United States, if these satellite centers raise 80 percent of the funds required to establish the satellite centers from non-Federal public and private sources;

(5) To establish the capability to electronically link the facility with other local and regional facilities that have collections and programs that interpret the history of the Underground Railroad; and

(6) To submit, for each fiscal year for which the organization receives funding under this program, a report to the Department that contains—

(a) A description of the programs and activities supported by the funding;

(b) The audited financial statement of the organization for the preceding fiscal year;

(c) A plan for the programs and activities to be supported by the funding, as the Secretary may require; and

(a) An evaluation of the programs and activities supported by the funding, as the Secretary may require.

For Applications and Further Information Contact: Jay Donahue, U.S. Department of Education, 6th Floor, 1990 K Street, NW., room 6162, Washington, DC 20006-8544. Telephone: (202) 502-7507 or via Internet: Jay.Donahue@ed.gov.

If you use a telecommunications device for the deaf (TDD), you may call the Federal Information Relay Service (FIRS) at 1-800-877-8339.

Individuals with disabilities may obtain a copy of this notice or the application package in an alternative format (e.g., Braille, large print, audiotape, or computer diskette) on request to the contact person listed under For Applications and Further Information Contact.

However, the Department is not able to reproduce in an alternative format the standard forms included in the application package.

Electronic Access to This Document

You may view this document, as well as all other Department of Education documents published in the Federal Register, in text or Adobe Portable Document Format (PDF) on the Internet at the following site: http://www.ed.gov/legislation/fedRegister.

To use PDF you must have Adobe Acrobat Reader, which is available free at this site. If you have questions about using PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html.

Program Authority: Section 841 of the Higher Education Amendments of 1998, Pub. L. 105-244, 20 U.S.C. 1153.

Dated: April 16, 2003.
Sally L. Stroup,
Assistant Secretary, Office of Postsecondary Education.

[FR Doc. 03-9883 Filed 4-21-03; 8:45 am]

BILLING CODE 4000-01-P